DEPARTMENT OF ENERGY

Federal Energy Regulatory Commission

Combined Notice of Filings #1

July 26, 2006.

Take notice that the Commission received the following exempt wholesale generator filings:

Docket Numbers: EG06-66-000.

Applicants: Scurry County Wind L.P.

Description: Scurry County Wind, LP submits a Notice of Self-Certification of Exempt Wholesale Generator Status.

Filed Date: 7/21/2006.

Accession Number: 20060726-0095.

Comment Date: 5 p.m. Eastern Time on Friday, August 11, 2006.

Take notice that the Commission received the following electric rate filings:

Docket Numbers: ER00-3614-005; ER04-611-003.

Applicants: BP Energy Company; BP West Coast Products, LLC.

Description: BP Energy Co, et al. submit an update to a 5/3/06 supplemental information filing and on 7/25/06 submit the original signature page of the supplemental affidavit to this filing.

Filed Date: 7/24/2006; 07/25/2006.

Accession Number: 20060726-0048.

Comment Date: 5 p.m. Eastern Time on Monday, August 14, 2006.

Docket Numbers: ER01-316-021.

Applicants: ISO New England Inc.

Description: ISO New England, Inc submits its Index of Customers for second quarter of 2006, pursuant to Commission letter order issued 6/1/01.

Filed Date: 7/24/2006.

Accession Number: 20060726-0097.

Comment Date: 5 p.m. Eastern Time on Monday, August 14, 2006.

Docket Numbers: ER04-925-009.

Applicants: Merrill Lynch Commodities, Inc.

Description: Merrill Lynch Commodities, Inc submits a notice of non-material change in circumstances.

Filed Date: 7/24/2006.

Accession Number: 20060726-0099.

Comment Date: 5 p.m. Eastern Time on Monday, August 14, 2006.

Docket Numbers: ER05-1501-003.

Applicants: California Independent System Operator Corporation.

Description: The California Independent System Operator Corp submits an informational filing relating to their 3/22/06 conformed Simplified & Reorganized Tariff.

Filed Date: 7/21/2006.

Accession Number: 20060726-0094.

Comment Date: 5 p.m. Eastern Time on Friday, August 11, 2006.

Docket Numbers: ER06-20-005.

Applicants: E.ON U.S.; Louisville Gas & Electric Company; Kentucky Utilities Company.

Description: E.ON U.S. LLC, Louisville Gas & Electric Co & Kentucky Utilities Co submit a complete and clean revised version of its OATT, including all changes submitted to FERC on 7/19/06.

Filed Date: 7/21/2006.

Accession Number: 20060726-0101.

Comment Date: 5 p.m. Eastern Time on Friday, August 04, 2006.

Docket Numbers: ER06-1268-000.

Applicants: Oklahoma Gas and Electric Company.

Description: Oklahoma Gas and Electric Co submits its Second Revised FERC Rate Schedule 146.

Filed Date: 7/21/2006.

Accession Number: 20060725-0062.

Comment Date: 5 p.m. Eastern Time on Friday, August 11, 2006.

Docket Numbers: ER06-1269-000.

Applicants: PPL Electric Utilities Corporation.

Description: PPL Electric Utilities submits a notice of termination for an Interconnection Agreement with PPL Electric and Masonic Homes, designated as Service Agreement No. 700.

Filed Date: 7/21/2006.

Accession Number: 20060725-0060.

Comment Date: 5 p.m. Eastern Time on Friday, August 11, 2006.

Docket Numbers: ER06-1273-000.

Applicants: Wolverine Trading LLC.

Description: Wolverine Trading, LLC requests a petition for acceptance of its initial tariff, waivers and blanket authority for FERC Electric Tariff, Original Volume 1.

Filed Date: 7/24/2006.

Accession Number: 20060726-0096.

Comment Date: 5 p.m. Eastern Time on Monday, August 14, 2006.

Docket Numbers: ER06-1274-000.

Applicants: Duke Power Company LLC.

Description: Duke Power Co, LLC submits two Network Integration Service Agreements for Network Integration Transmission Service with the City of Kings Mountain, NC and the Town of Dallas, NC.

Filed Date: 7/24/2006.

Accession Number: 20060726-0098.

Comment Date: 5 p.m. Eastern Time on Monday, August 14, 2006.

Docket Numbers: ER06-1275-000.

Applicants: Southern California Edison Company.

Description: Southern California Edison Co submits its 115kV Interconnection Project Wholesale Distribution Load Interconnection Facilities Agreement etc. with the City of Moreno Valley.

Filed Date: 7/21/2006.

Accession Number: 20060726-0100.

Comment Date: 5 p.m. Eastern Time on Friday, August 11, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-15114 Filed 9-11-06; 8:45 am]

BILLING CODE 6717-01-P